DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is a notice of intent to award supplemental funding to the eight Minority Fellowship Program (MFP) recipients funded in FY 2018 under Notice of Funding Opportunity (NOFO) SM-18-002 and TI-18-013. This is to inform the public that the Substance Abuse and Mental Health Services Administration (SAMHSA) is supporting supplements, which are consistent with the initial award, up to $1,776,319 for seven Minority Fellowship Program (MFP) recipients funded under NOFO SM-18-002, and up to $1,247,286 for one MFP recipient funded under TI-18-013, for a total of $13,662,335. These recipients have a project end date of September 29, 2023. The supplemental funding will extend the project period by one-year and the recipients will continue to enhance and increase the behavioral health workforce knowledge related to prevention, treatment, and recovery support for mental illness and substance use disorders among racial and ethnic minority populations by providing specialized training among the MFP professional organizations

FOR FURTHER INFORMATION CONTACT:

Sheryl Crawford, telephone: (240) 276-1063, email: sheryl.crawford@samhsa.hhs.gov.

Azeb Berhane, telephone: (240) 276-2239, email: azeb.berhane@samhsa.hhs.gov.

SUPPLEMENTARY INFORMATION:

Funding Opportunity Title: FY 2018 MFP NOFO SM-18-002 and TI-18-013.

Assistance Listing Number: 93.243.

Authority: The MFP is authorized under section 597 of the Public Health Service Act, as amended.

Justification: Eligibility for this supplemental funding is limited to the eight MFP organizations funded in FY 2018. These organizations are currently providing the specialized training to increase behavioral health professionals' knowledge related to prevention, treatment, and recovery support for mental illness and substance use disorders among racial and ethnic minority populations.

This is not a formal request for application. Assistance will only be provided to the eight MFP grant recipients, based on the receipt of a satisfactory application and associated budget.

Dated: July 28, 2023.
Ann Ferrero,
Public Health Analyst.

[FR Doc. 2023-16429 Filed 8-1-23; 8:45 am]

BILLING CODE 4162-20-P